DEPARTMENT OF THE INTERIOR

National Park Service

Concession Contract Negotiations; Public Notice

AGENCY: National Park Service, Interior.

ACTION: Public notice.

SUMMARY: Pursuant to 36 CFR 51.23, public notice is hereby given that the National Park Service proposes to extend the following expiring concession contracts for a period of up to one year, or until such time as a new contract is executed, whichever occurs sooner.

SUPPLEMENTARY INFORMATION: All of the listed concession authorizations will expire by their terms on or before December 31, 2002. The National Park Service has determined that the proposed short-term extensions are necessary in order to avoid interruption of visitor services and has taken all reasonable and appropriate steps to consider alternatives to avoid such interruption. These extensions will allow the National Park Service to complete and issue prospectuses leading to the competitive selection of concessioners for new long-term concession contracts covering these operations.

Concid ID No. | Concessioner name | Park
LP-CUVA001-94 | American Youth Hostels | Cuyahoga Valley National Park.
CC-HOSP001-80 | City/Hot Springs Tower | Hot Springs National Park.
CC-HOSP004-88 | Libbey Memorial | Hot Springs National Park.
CP-INDU003-94 | Michiana Industries | Indiana Dunes National Landmark
CP-ISRO001-95 | The Royale Line | Isle Royale National Park.
CP-ISRO007-95 | GRPO-ISRO Trans Line | Isle Royale National Park.
CC-WASO001-82 | National Park Concessions, Inc. |
CC-JEFF001-96 | Compass Group USA | Jefferson National Expansion Memorial
LP-MWRP001-95 | Eastern National Parks & Monuments | Midwest Regional Office
CP-ENPMA01-91 | Eastern National Parks & Monuments |
CC-MORU001-93 | Xanterra Parks & Resorts | Mount Rushmore National Memorial
CC-OZAR012-88 | Akers Ferry Canoe | Ozark National Scenic Riverway.
LP-OZAR037-91 | Akers Ferry Tube Rent | Ozark National Scenic Riverway.
CC-OZAR001-88 | Alley Spring Canoe | Ozark National Scenic Riverway.
CC-OZAR003-86 | Alley Spring Canoe | Ozark National Scenic Riverway.
CC-OZAR015-94 | Big Spring Lodge | Ozark National Scenic Riverway.
CC-OZAR050-97 | Big Spring River Camp tube | Ozark National Scenic Riverway.
CC-OZAR016-89 | Carr's Grocery/Canoe | Ozark National Scenic Riverway.
CC-OZAR040-97 | Carr's Tube Rental | Ozark National Scenic Riverway.
CC-OZAR011-97 | Current River Canoe | Ozark National Scenic Riverway.
CC-OZAR010-97 | Deer Run Campground | Ozark National Scenic Riverway.
CC-OZAR013-97 | Eminence Canoe Rental | Ozark National Scenic Riverway.
CC-OZAR023-97 | Hawthorne Canoe Rental | Ozark National Scenic Riverway.
CC-OZAR002-97 | Jack's Fork Canoe Rental | Ozark National Scenic Riverway.
CC-OZAR020-97 | Jadwin Canoe Rental | Ozark National Scenic Riverway.
CC-OZAR024-97 | The Landing Canoe | Ozark National Scenic Riverway.
CC-OZAR036-97 | Maggard Canoe/Boat | Ozark National Scenic Riverway.
CC-OZAR008-97 | Round Spring Canoe | Ozark National Scenic Riverway.
CC-OZAR028-97 | Running River Canoe | Ozark National Scenic Riverway.
CC-OZAR007-97 | Silver Arrow Canoe Rental | Ozark National Scenic Riverway.
CC-OZAR049-97 | Smalley's Motel Tube | Ozark National Scenic Riverway.
CC-OZAR018-97 | Two Rivers Canoe | Ozark National Scenic Riverway.
CC-OZAR005-97 | Wild River Canoe | Ozark National Scenic Riverway.
CC-OZAR014-97 | Windy's Canoe Rental | Ozark National Scenic Riverway.
CC-SLBE005-86 | Manitou Island Transit | Sleeping Bear Dunes National Landmark.
CC-SLBE008-99 | Blough Firewood | Sleeping Bear Dunes National Landmark.
CC-THRO001-98 | Shadow County Outfitters | Theodore Roosevelt National Park.
LP-WICA002-98 | Black Hills Parks | Wind Cave National Park.

EFFECTIVE DATE: January 2, 2003.

FOR FURTHER INFORMATION CONTACT: Cynthia Orlando, Concession Program Manager, National Park Service, Washington, DC 20240, Telephone 202/513-7156.

Dated: October 25, 2002.
Richard G. Ring,
Associate Director, Administration, Business Practices and Workforce Development.

[FR Doc. 02-30926 Filed 12-5-02; 8:45 am]

BILLING CODE 4310-70-M